DEPARTMENT OF JUSTICE

Notice of Lodging Proposed Consent Decree

In accordance with Departmental Policy, 28 CFR 50.7, notice is hereby given that a proposed Consent Decree in United States v. Riccelli Enterprises, Inc., Civil Action No. 5:13-cv-916 (GLS/DEP) was lodged with the United States District Court for the Northern District of New York on August 5, 2013.

This proposed Consent Decree concerns a complaint filed by the United States against Riccelli Enterprises, Inc. and Riccelli Enterprises, LLC pursuant to Clean Water Act sections 301 and 309, 33 U.S.C. 1311 and 1319, to obtain injunctive relief from and impose civil penalties against the Defendants for violating the Clean Water Act by discharging pollutants without a permit into waters of the United States. The proposed Consent Decree resolves these allegations by requiring the Defendants to restore and monitor the impacted areas and to pay a civil penalty.

The Department of Justice will accept written comments relating to this proposed Consent Decree for thirty (30) days from the date of publication of this Notice. Please address comments to Charles E. Roberts, Assistant United States Attorney, 100 South Clinton Street, Syracuse, New York 13260-0039 and refer to United States v. Riccelli Enterprises, Inc., U.S.A.O. # 2011V01026; CDCS # 2013A58769 and DJ # 90-5-1-1-19520.

The proposed Consent Decree may be examined at the Clerk's Office, United States District Court for the Northern District of Syracuse, 100 South Clinton Street, Syracuse, NY 13261-7367. In addition, the proposed Consent Decree may be examined electronically at http://www.justice.gov/enrd/Consent_Decrees.html.

Cherie L. Rogers,
Assistant Section Chief, Environmental Defense Section, Environment and Natural Resources Division.

[FR Doc. 2013-19883 Filed 8-15-13; 8:45 am]

BILLING CODE P